DEPARTMENT OF TRANSPORTATION

Federal Railroad Administration

[Docket No. FRA-2025-0016]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before May 9, 2025.

ADDRESSES: Written comments and recommendations for the proposed ICR should be submitted on www.regulations.gov to the docket, Docket No. FRA-2025-0016. All comments received will be posted without change to the docket, including any personal information provided. Please refer to the assigned OMB control number (2130-0004) in any correspondence submitted. FRA will summarize comments received in response to this notice in a subsequent notice, made available to the public, and include them in its information collection submission to OMB for approval. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Railroad Locomotive Safety Standards and Event Recorders.

OMB Control Number: 2130-0004.

Abstract: This notice includes revisions to a currently approved ICR for the Railroad Locomotive Safety Standards (LSS), and revisions to existing OMB Form FRA F 6180.49A, Locomotive Inspection and Repair Record. The LSS (49 CFR part 229) require locomotives and their appurtenances to be in proper condition and safe to operate in the service to which they are put and include specific inspection, repair, and maintenance requirements. Locomotive inspection, repair, and maintenance records are used to help ensure locomotives are safe to operate. Form FRA F 6180.49A is the main record used to collect required information from inspection, maintenance, and testing of each locomotive. The LSS also require collection of event recorder data. The data gathered from locomotive event recorders is used by the railroad industry to improve train handling and promote the safe and efficient operation of trains throughout the country. Locomotive event recorders also provide FRA and State railroad safety inspectors with verified data elements for use in their oversight responsibilities that show how trains are operated from lead locomotives.

This notice includes changes to Form FRA F 6180.49A recommended by the Association of American Railroads on behalf of its Locomotive Committee membership as detailed below:

• In Block #6—“Propelled by,” FRA has added four (4) new permissible values for the following propulsion technologies: Hydrogen Electric; Hydrogen Internal Combustion Engine (ICE); Battery Electric; and Natural Gas.

• In Block #15—“Items,” FRA has added new Item Code “8. Hand/Park Brake” to clarify and reference what is reported under the Test Type blocks for the block currently titled “Hand Brake 232.105(c)”. This block has also been updated to read “Hand/Park Brake 232.105(c)” for consistency.

Additionally, FRA has made multiple adjustments that increased the previously approved burden hours from 232,525 to 245,200 hours. While the edits to Form FRA F 6180.49A reduced the average time per response from 15 minutes to 13.5 minutes, the overall burden was increased by 12,675 hours. This increase, after a thorough review, is due to the aging fleet, a reduction of repair shops, and optimization of their services. In addition, because of an increase in remote control locomotives, as well as passenger and commuter services, there was a significant increase in the annual number of periodic inspections being performed.

For example, under § 229.23, the increase in the number of non-passenger and passenger locomotives requiring periodic inspections accounts for 85 percent of the annual burden hour increase. Relatedly, the increased use of event recorders and the required periodic inspections increased the annual burden by approximately 8 percent.

Furthermore, FRA determined that the burden hours reported under § 229.317(b) are for a recordkeeping requirement that is already accounted for under § 229.317(h). The burden has been updated accordingly to remove the duplication.

Type of Request: Revision of a currently approved collection.

Affected Public: Railroads.

Form(s): FRA F 6180.49A.

Respondent Universe: 745 railroads.

Frequency of Submission: On occasion.

Reporting Burden
CFR section | Respondent universe | Total annual responses | Average time per response | Total annual burden hours | Wage rate ¹ | Total cost equivalent U.S.D.
|  | (A) | (B) | (A * B = C) | (D) | (E = C * D)
229.9 Movement of non-complying locomotives:
—(3) Tagging to indicate “non-complying locomotive” | 745 railroads | 1,886 | 1 minute | 31.43 | $89.13 | $2,801.36
229.15 Remote control locomotives (RCL):
—(a)(11) Tagging to indicate in remote control mode | 745 railroads | 3000 | 1 minute | 50 | 89.13 | 4,456.50
229.17 Accident reports:
The estimated paperwork burden for this regulatory requirement is covered under OMB control number 2130-0500, Accident Incident Reporting and Recordkeeping.
229.20 Electronic recordkeeping: |
—(b) Design requirements for electronic record system | Since railroads have already received agency approval for their electronic recordkeeping systems under waiver petitions, FRA estimates that there will be zero (0) requests to modify their electronic recordkeeping systems. Consequently, there is no burden associated with this requirement.
—(c) Operational requirements—Automatic notice to railroads each time locomotive is due for inspection or maintenance (Note: This requirement does not apply to daily inspections) | 745 railroads | 40,000 | 1 second | 11.11 | 89.13 | 990.23
229.21 Daily inspection:
—(a) Locomotive daily inspection reports | 745 railroads | 744,302 papers 6,698,718 electronic | 3 minutes 1 minute | 37,215.10 111,645.30 | 89.13 89.13 | 3,316,981.86 9,950,945.59
—(b) Written reports of MU locomotive daily inspections | 9 railroads | 1,317,650 | 3 minutes | 65,882.50 | 80.38 | 5,295,635.35
229.23 Periodic inspection: general:
—Inspection & Repair Record—Form FRA F 6180.49A | 701 railroads 36 railroads | 71,428 non-passenger 15,925 passenger | 14.3 minutes 14.3 minutes | 15,714.16 3,503.50 | 80.38 80.38 | 1,263,104.18 281,611.33
229.25 Tests: Every periodic inspection:
229.25(d)—Event recorder periodic inspections | 60 railroads | 6,549 records | 90 minutes | 9,823.50 | 89.13 | 875,568.56
229.46 Brakes: general:
—(b)(4) Tagging | 745 railroads | 2,483 | 1 minute | 41.38 | 80.38 | 3,326.12
229.85 High voltage markings: doors, cover plates, or barriers:
—Marking of all doors, cover plates, or barriers | 745 railroads | 1,067 | 1 minute | 17.78 | 69.60 | 1,237.49
229.113 Warning notice, 229.114 Steam generator inspections and tests:
—Warning notice —Steam generator inspections and tests. | There are currently no steam generators in use. FRA keeps these provisions just in case a railroad decides to use a steam generator. Consequently, there is no burden associated with these requirements.
229.123 Pilots, snowplows, end plates:
—(b)(1)—Marking/stenciling | 745 railroads | 22 | 4 minutes | 1.47 | 80.38 | 118.16
229.135 Event recorders:
229.135(e) Preserving locomotive event recorder accident data—reports | The estimated paperwork burden for this regulatory requirement is covered under OMB control number 2130-0500.
229.303 Applicability:
—(a)(5) Requests to FRA for on-track testing of products outside a facility | 745 railroads | 5 | 1 hour | 5 | 89.13 | 445.65
229.307 Safety analysis:
—Safety analysis for each product subject to this subpart—Document establishing minimum requirements | 745 railroads | 3 | 240 hours | 720 | 89.13 | 64,173.60
229.309 Safety-critical changes and failures:
229.309(a)—Safety critical changes to product subject to this subpart—Notice to FRA | 745 railroads | 5 | 8 hours | 40 | 89.13 | 3,565.20
—(b)(c) Reports to product suppliers and private owners | 3 manufacturers | 15 | 8 hours | 120 | 89.13 | 10,695.60
229.311 Review of Sas:
229.311(a)—Notice to FRA by railroad before placing product in service | 745 railroads | 3 | 2 hours | 6 | 89.13 | 534.78
—(d) Railroad maintenance of database of all safety relevant hazards encountered after product is placed in service | 745 railroads | 3 | 2 hours | 6 | 89.13 | 534.78
—(d)(1) Written report to FRA disclosing frequency of safety-relevant hazards for product exceeding threshold set forth in Safety Analysis | 745 railroads | 1 | 1 hour | 2 | 89.13 | 178.26
229.315 Operations and maintenance manual:
229.315(c)—Configuration management control plan updates to FRA | 745 railroads | 3 | 1 minute | 0.05 | 89.13 | 4.46
229.317 Training and qualification program:
229.317(a)—Training and qualification program—Establishment and implementation of training qualification program for products subject to this subpart | 745 railroads | 5 | 1 minute | 0.08 | 89.13 | 7.13
—(g) RR regular and periodic evaluation of effectiveness of its training program | 745 railroads | 90 | 2 hours | 180 | 89.13 | 16,043.40
—(h) RR record of individuals designated as qualified under this section | 745 railroads | 11,000 | 1 minute | 183.33 | 89.13 | 16,340.50
229.319 Operating personnel training:
229.319(a) and (b)—Operating Personnel Training | The estimated paperwork burden for this regulatory requirement is covered under § 229.317. The burden for other persons who participate in the operation of a train using an onboard electronic locomotive control (conductors) is covered under OMB Control number 2130-0533.
Appendix F to Part 229: |
Appendix F to Part 229—(c) Guidance for verification and validation of products—Third party assessments | FRA anticipates zero railroad submissions during this 3-year ICR period.
—Final report of assessment | FRA anticipates zero railroad submissions during this 3-year ICR period.
Total ² | 745 railroads | 8,913,163 responses |  | 245,200 |  | 21,109,300
¹ The dollar equivalent cost is derived from the 2023 Surface Transportation Board Full Year Wage A&B data series using the employee group 200 (Professional & Administrative) hourly wage rate of $50.93, group 400 (Maintenance of Equipment & Stores) hourly wage rate of $39.77, and group 500 (Transportation (Other than Train & Engine) hourly wage rate of $45.93. The total burden wage rate (Straight time plus 75%) used in the table is $89.13 ($50.93 × 1.75 = $89.13), $39.77 ($39.77 × 1.75 = $69.60), and $45.93 ($45.93 × 1.75 = $80.38).
² Totals may not add due to rounding.

Total Estimated Annual Responses: 8,913,1634.

Total Estimated Annual Burden: 245,200 hours.

Total Estimated Annual Burden Hour Dollar Cost Equivalent: $21,109.300.

FRA informs all interested parties that it may not conduct or sponsor, and a respondent is not required to respond to, a collection of information that does not display a currently valid OMB control number.

Authority: 44 U.S.C. 3501-3520.

Christopher S. Van Nostrand,
Deputy Chief Counsel.

[FR Doc. 2025-03765 Filed 3-7-25; 8:45 am]

BILLING CODE 4910-06-P